DEPARTMENT OF LABOR

Employment and Training Administration

[TA-W-51,047]

Search Resources, Workers Employed at Blandin Paper Co., Grand Rapids, MN; Notice of Termination of Investigation

Pursuant to section 221 of the Trade Act of 1974, an investigation was initiated on March 4, 2003 in response to a worker petition which was filed on behalf of workers of Search Resources employed at Blandin Paper Company, Grand Rapids, Minnesota.

An active certification covering the petitioning group of workers is already in effect (TA-W-50,598, as amended). Consequently, further investigation in this case would serve no purpose, and the investigation has been terminated.

Signed in Washington, DC, this 26th day of March 2003.
Richard Church,
Certifying Officer, Division of Trade Adjustment Assistance.

[FR Doc. 03-8346 Filed 4-4-03; 8:45 am]

BILLING CODE 4510-30-P